DEPARTMENT OF TRANSPORTATION

Federal Aviation Administration

Research, Engineering and Development (R,E&D) Advisory Committee, Aerospace Transportation Advisory Group (ATAG); Meeting

Pursuant to section 10(A)(2) of the Federal Advisory Committee Act (Public Law 92-463; 5 U.S.C. App. 2), notice is hereby given of a meeting of the Aerospace Transportation Advisory Group (ATAG), which is a Subcommittee of the FAA Research, Engineering and Development (R,E&D) Advisory Committee. The meeting will be held on March 12, 2001 at the DoubleTree Hotel San Francisco Airport, 835 Airport Boulevard, Burlingame, California. The meeting will begin at 1:00 p.m. and end at 5:00 p.m.

The meeting agenda will review the draft outline for an Aerospace System After Next Paper.

Persons wishing to attend the meeting or obtain information should contact Lee Olson at the Federal Aviation Administration, AAR-200, 800 Independence Avenue, SW, Washington, DC 20591 (202) 267-7358.

Issued in Washington, DC on March 1, 2001.
Mary Powers-King,
Deputy Director, Office of Aviation Research.

[FR Doc. 01-5837 Filed 3-6-01; 1:31 pm]

BILLING CODE 4910-13-M